DEPARTMENT OF COMMERCE

National Oceanic and Atmospheric Administration

NOAA Annual Strategic Priorities

AGENCY: National Oceanic and Atmospheric Administration, (NOAA), Department of Commerce.

ACTION: Request for comments.

SUMMARY: The National Oceanic and Atmospheric Administration, (NOAA) is seeking input on priorities for its next five-year planning cycle. Annually, NOAA collects views on emerging programmatic and managerial trends and alternative solutions as we seek to achieve NOAA's strategic goals. Stakeholder views and comments will be summarized and used by NOAA Leadership in the development of its priorities for planning years 2009-2013. NOAA encourages stakeholders and users to review its present priorities and provide comments and recommendations that reflect your vision of the future, as it relates to NOAA's mission. You can find NOAA's current strategic priorities at the Web site noted in the ADDRESSES section, below.

DATES: Public comments on NOAA's priorities for planning years 2009-2013 must be received at the appropriate mailing or e-mail address (see ADDRESSES, below) on or before 8 p.m. Eastern time, March 9, 2006.

ADDRESSES: Send comments to Dr. Paul Doremus, Director of Strategic Planning, NOAA Office of Program Planning and Integration, National Oceanic and Atmospheric Administration (NOAA), Room 15755-PPI, 1315 East-West Highway, Silver Spring, MD 20910. Comments may be submitted via the Office of Program Planning and Integration website at http://ppi.noaa.gov/ or e-mail to strategic.planning@noaa.gov. You can find NOAA's current strategic priorities at http://www.ppi.noaa.gov/AGM_FY08.pdf.

FOR FURTHER INFORMATION CONTACT: Mr. Neil Christerson, phone: 301-713-1622, Extension 192, fax: 301-713-0585.

SUPPLEMENTARY INFORMATION: None.

Dated: February 13, 2006.
Mary M. Glackin,
NOAA Assistant Administrator for Program Planning and Integration.

[FR Doc. 06-1507 Filed 2-16-06; 8:45 am]

BILLING CODE 3510-NW-M